DEPARTMENT OF COMMERCE

International Trade Administration

Format for Petition Requesting Relief Under U.S. Countervailing Duty Law

ACTION: Proposed collection; comment request.

SUMMARY: The Department of Commerce, as part of its continuing effort to reduce paperwork and respondent burden, invites the general public and other Federal agencies to take this opportunity to comment on the continuing information collections, as required by the Paperwork Reduction Act of 1995, Public Law 104-13 (44 U.S.C. 3506 (c)(2)(A)).

DATES: Written comments must be submitted on or before July 10, 2000.

ADDRESSES: Direct all written comments to Linda Engelmeier, Departmental Forms Clearance Officer, (202) 482-3272, Email Lengelme@doc.gov., Department of Commerce, Room 5033, 14 & Constitution Avenue, NW, Washington, DC 20230. Phone number: (202)482-3272.

FOR FURTHER INFORMATION CONTACT: Requests for additional information or copies of the information collection instrument and instructions should be directed to: Norbert Gannon, Office of Policy, Import Administration, Room 3716, 14 & Constitution Ave, NW, Washington DC 20230; phone (202) 482-3605 and fax: (202) 482-2308.

SUPPLEMENTARY INFORMATION: Abstract: The International Trade Administration, Import Administration, AD/CVD Enforcement, implements the U.S. anti-dumping and countervailing duty law. Import Administration investigates allegations of unfair trade practices by foreign governments and producers and, in conjunction with the U.S. International Trade Commission, can impose duties on the product in question to offset the unfair practices. Form ITA 366-P—Format for Petition Requesting Relief Under the U.S. Countervailing Duty Law—is designed for U.S. companies or industries that are unfamiliar with the countervailing duty law and the petition process. The Form is designed for potential petitioners that believe a foreign competitor is being subsidized unfairly. Since a variety of detailed information is required under the law before initiation of a countervailing duty investigation, the Form is designed to extract such information in the least burdensome manner possible.

I. Method of Collection

Form ITA 366-P is sent by request to potential U.S. petitioners.

II. Data

OMB Number: 0625-0148.

Form Number: ITA-366P.

Type of Review: Regular Submission.

Affected Public: U.S. companies or industries that suspect the presence of unfair competition from subsidized foreign enterprises.

Estimated Number of Respondents: 5.

Estimated Time per Response: 40 hours.

Estimated Total Annual Burden Hours: 200.

Estimated Total Annual Cost: Assuming the number of petitioners remains the same, with a total of 40 hours per respondent, at an estimated cost of $70 per hour, the total annual cost is $14,000.

III. Requested for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 5, 2000.
Madeleine Clayton,
Management Analyst, Office of the Chief Information Officer.

[FR Doc. 00-11791 Filed 5-10-00; 8:45 am]

BILLING CODE 3510-CW-P